ENVIRONMENTAL PROTECTION AGENCY

40 CFR Parts 174 and 180

[EPA-HQ-OPP-2018-0577; FRL-9987-08]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before March 8, 2019.

ADDRESSES: Submit your comments, identified by the docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

Amended Tolerances for Non-Inerts

PP 8F8679. (EPA-HQ-OPP-2018-0526). Syngenta Crop Protection, LLC, P.O. Box 18300, Greensboro, NC 27419, proposes upon the establishment of the tolerances references in this document under “New Tolerances” for PP 8F8679 to remove existing tolerances in 40 CFR part 180.665 for residues of the fungicide sedaxane in or on soybean, seed at 0.01 parts per million (ppm) and pea and bean, dried shelled, except soybean, subgroup 6C at 0.01ppm. Contact: RD.

New Tolerance Exemptions for Inerts (Except PIPS)

PP IN-11130. (EPA-HQ-OPP-2018-0613). SciReg, Inc. 12733 Director's Loop, Woodbridge, VA 22192, on behalf of Bayer CropScience Biologics GmbH, Lukaswiese 4, 23970 Wismar, Germany, requests to establish an exemption from the requirement of a tolerance for residues of 2-hydroxypropyl starch (CAS Reg. No. 9049-76-7) when used as an inert ingredient in pesticide formulations applied to growing crops only under 40 CFR 180.920. The petitioner believes no analytical method is needed because it is not required for an exemption from the requirement of a tolerance. Contact: RD.

New Tolerance Exemptions for Non-Inerts (Except PIPS)

PP 8F8698. (EPA-HQ-OPP-2018-0686). Plant Health Care, Inc., 2626 Glenwood Ave., Suite 350, Raleigh, NC 27608, requests to establish an exemption from the requirement of a tolerance in 40 CFR part 180 for residues of the plant regulator Ea Peptide 91398 in or on all food commodities. The petitioner believes no analytical method is needed because of the lack of effects in toxicological studies. Contact: BPPD.

New Tolerances for Inerts

PP 8F8679. (EPA-HQ-OPP-2018-0526). Syngenta Crop Protection, LLC, P.O. Box 18300, Greensboro, NC 27419, requests to establish a tolerance in 40 CFR part 180.665 for residues of the fungicide sedaxane in or on vegetable, legume, group 6 at 0.01 parts per million (ppm). The high-performance liquid chromatography with triple quadrapole mass spectrometry method is used to measure and evaluate the chemical sedaxane. Contact: RD.

New Tolerances for Non-Inerts

PP 8G8702. (EPA-HQ-OPP-2018-0680). Valent BioSciences LLC, 870 Technology Way, Libertyville, IL 60048, requests to establish temporary tolerances in 40 CFR part 180 for residues of the plant regulator aminoethoxyvinylglycine in or on apple at 0.065 parts per million (ppm) and pear at 0.065 ppm. The high-performance liquid chromatography analytical method is used to measure and evaluate the chemical aminoethoxyvinylglycine. Contact: BPPD.

Authority: 21 U.S.C. 346a.

Dated: December 17, 2018.
Delores Barber,
Director, Information Technology and Resources Management Division, Office of Pesticide Programs.

[FR Doc. 2019-01108 Filed 2-5-19; 8:45 am]

BILLING CODE 6560-50-P